DEPARTMENT OF AGRICULTURE

Forest Service

Information Collection; Outreach Opportunity Questionnaire

AGENCY: Forest Service, USDA.

ACTION: Notice; request for comment.

SUMMARY: In accordance with the Paperwork Reduction Act of 1995, the Forest Service is seeking comments from all interested individuals and organizations on the extension with revision of a currently approved information collection, Outreach Opportunity Questionnaire (0596-0207).

DATES: Comments must be received in writing on or before January 8, 2018 to be assured of consideration. Comments received after that date will be considered to the extent practicable.

ADDRESSES: Comments concerning this notice should be addressed to the Northern Research Station, Attention: Judy Terrell, Forest Service, USDA, 11 Campus Boulevard, Suite 200, Newtown Square, PA 19073.

Comments also may be submitted via email to: jterrell@fs.fed.us. The public may inspect comments received at USDA Forest Service, 11 Campus Boulevard, Suite 200, Newtown Square, PA 19073 during normal business hours. Visitors are encouraged to call ahead to 610-557-4057 to facilitate entry into the building.

FOR FURTHER INFORMATION CONTACT: Judy Terrell, 610-557-4057. Individuals who use telecommunications devices for the deaf (TDD) may call the Federal Relay Service (FRS) at 1-800-877-8339, between 8 a.m. and 8 p.m., Eastern Standard Time, Monday through Friday.

SUPPLEMENTARY INFORMATION:

Title: Outreach Opportunity Questionnaire.

OMB Number: 0596-0207.

Expiration Date of Approval: February 28, 2018.

Type of Request: Extension with revision.

Abstract: This information collection is proposing to extend the collection of information from students attending local college and university career fairs regarding the effectiveness of the information provided by the Forest Service personnel on career opportunities in the Forest Service. The collection is necessary to evaluate and determine the effectiveness of the Forest Service Civil Rights Northeastern Service Center (NESC) Outreach Program.

Forest Service, Civil Rights personnel, have utilized the Outreach Opportunity Questionnaire to collect evaluation information from students regarding presentations at career day events as well as at colleges and universities. Data received has appeared in reports provided to the Department of Agriculture, senior Forest Service officials, the Northern Research Station Director, and the Northern Research Station Civil Rights Diversity Committee. This information is a vital component in the analysis of Agency outreach efforts.

Estimate of Annual Burden: 20 hours/year.

Type of Respondents: University/College students.

Estimated Annual Number of Respondents: 675.

Estimated Annual Number of Responses per Respondent: 1.

Estimated Total Annual Burden on Respondents: 20 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: October 30, 2017.
J. Lenise Lago,
Acting Associate Chief, Forest Service.

[FR Doc. 2017-24179 Filed 11-6-17; 8:45 am]

BILLING CODE 3411-15-P